DEPARTMENT OF AGRICULTURE

Office of the Secretary

Improving Customer Service

AGENCY: Office of the Secretary, USDA.

ACTION: Request for Information (RFI).

SUMMARY: Consistent with Executive Order 13781, “Comprehensive Plan for Reorganizing the Executive Branch,” and using the authority of the Secretary to reorganize the Department under section 4(a) of Reorganization Plan No. 2 of 1953 the U.S. Department of Agriculture (USDA) is soliciting public comment on the proposed reorganization announced by Secretary Perdue on September 7, 2017. The proposed reorganizations follow a previous reorganization announced on May 11, 2017.

DATES: Comments and information are requested on or before October 7, 2017.

ADDRESSES: Interested persons are invited to submit comments regarding this notice. All submissions must refer to “Improving Customer Service” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand delivery, or Courier. Paper, disk, or CD-ROM submissions should be submitted to the Office of Budget and Program Analysis, USDA, Jamie L. Whitten Building, Room 101-A, 1400 Independence Ave. SW., Washington, DC 20250.

FOR FURTHER INFORMATION CONTACT: Donald Bice, Telephone Number: (202) 720-3291.

SUPPLEMENTARY INFORMATION: USDA is committed to operating efficiently, effectively, and with integrity, and minimizing the burdens on individuals businesses, and communities for participation in and compliance with USDA programs. USDA works to support the American agricultural economy to strengthen rural communities; to protect and conserve our natural resources; and to provide a safe, sufficient, and nutritious food supply for the American people. The Department's wide range of programs and responsibilities touches the lives of every American every day.

I. Executive Orders 13781

Executive Order 13781, “Comprehensive Plan for Reorganizing the Executive Branch”, is intended to improve the efficiency, effectiveness, and accountability of the executive branch. The principles in the Executive Order provide the basis for taking actions to enhance and strengthen the delivery of USDA programs. The Department will continue to work within the Administration on the government-wide reform plan and additional reform efforts.

II. Reorganization Actions

On September 7, 2017, Secretary Perdue announced his intent to take actions to strengthen customer service and improve efficiencies at USDA by taking the following actions:

• Merging the Center for Nutrition and Policy Promotion into the Food and Nutrition Service;

• Consolidating the Grain Inspection, Packers, and Stockyards Administration into the Agricultural Marketing Service (AMS);

• Realigning the Farm Service Agency (FSA) Warehouse function and the International Food Commodity Procurement program into AMS;

• Moving the Codex Alimentarius program from the Food Safety and Inspection Service into the Undersecretary for Trade and Foreign Agricultural Affairs;

• Realigning the Office of Pesticide Management Policy out of the Agricultural Research Service and into the Office of the Chief Economist;

• Establishing the Office of Partnerships and Public Engagement through the merger of the Office of Advocacy and Outreach, the Office of Tribal Relations, the Center for Faith Based and Neighborhood Partnerships, and the Military Veterans Liaison;

• Creating an Office of Innovation within Rural Development; and

• Consolidating mission support activities, including information technology, finance, property, procurement, and human resources, at the mission area level. (https://www.usda.gov/media/press-releases)

III. Request for Information

USDA is seeking public comment on the actions identified in the September 7, 2017, announcement.

USDA notes that this notice is issued solely for information and program-planning purposes. While responses to this notice do not bind USDA to any further actions, all submissions will be reviewed by the appropriate program office, and made publicly available on http://www.regulations.gov.

Dated: September 7, 2017.
Donald Bice,
Acting Deputy Assistant Secretary for Administration.

[FR Doc. 2017-19337 Filed 9-11-17; 8:45 am]

BILLING CODE P